DEPARTMENT OF TRANSPORTATION

Federal Railroad Administration

49 CFR Parts 222 and 229

[Docket No. FRA-1999-6439, Notice No. 6; Docket No. FRA-1999-6440]

RIN 2130-AA71

Use of Locomotive Horns at Highway-Rail Grade Crossings

AGENCY: Federal Railroad Administration (FRA), Department of Transportation (DOT).

ACTION: Notice of Public Hearings.

SUMMARY: This document provides notice of additional public hearings to be held in Chicago, Illinois and Madison, Wisconsin regarding FRA Docket Nos. 1999-6439 and 1999-6440. On January 13, 2000 (65 FR 2230), FRA published a Notice of Proposed Rulemaking (NPRM) on the Use of Locomotive Horns at Highway-Rail Grade Crossings (Docket No. FRA-1999-6439). On the same date FRA released a Draft Environmental Assessment (DEIS) (Docket No. FRA-1999-6440) pertaining to the proposals contained in the NPRM. In both documents, FRA stated that public hearings would be held in a number of locations throughout the country. On February 15, 2000 (65 FR 7483), March 22, 2000 (65 FR 15298), and March 29, 2000 (65 FR 16559) FRA published in the Federal Register documents regarding the locations of combined hearings on the NPRM and DEIS to be held in various cities. This document provides notice of two additional public hearings to be held in Chicago and Madison, Wisconsin. This document provides information pertaining to those hearings as well as repeating information previously published regarding hearings to be held after the date of this document.

DATES: Public Hearings: Public hearings will be held in:

1. Chicago, Illinois area on the following dates:

Western Springs, Illinois on April 25, 2000, beginning at 12 noon;

Chicago, Illinois on April 26, 2000, beginning at 9 a.m.;

Saint Xavier University campus on April 26, 2000, beginning at 5 p.m;

Des Plaines, Illinois on April 27, 2000; beginning at 9 a.m.;

2. Berea, Ohio on May 1, 2000, beginning at 6 p.m; and

3. Madison, Wisconsin on May 3, 2000, beginning at 9 a.m.

Please see SUPPLEMENTARY INFORMATION below for further information concerning participation in the public hearings.

ADDRESSES: Public Hearings: Public hearings will be held at the following locations:

1. Chicago, Illinois: On April 25, 2000, beginning at 12 noon, at Lyons Township High School, South Campus, The Little Theater, 4900 Willow Springs Road, Western Springs, Illinois;

On April 26, 2000, beginning at 9 a.m., at The Field Museum of Natural History (James Simpson Theater) 1400 South Lake Shore Drive, Chicago, Illinois 60605;

On April 26, 2000, beginning at 5 p.m, at Saint Xavier University (McGuire Hall) 3700 West 103rd Street, Chicago, Illinois 60655;

On April 27, 2000, beginning at 9 a.m., at the Federal Aviation Administration (The Minnesota Room), 2300 East Devon Avenue, Des Plaines, Illinois 60018; and

2. Berea, Ohio: Baldwin-Wallace College, Kleist Center for Art and Drama, 95 E. Bagley Road, Berea, Ohio 44017; and

3. Madison, Wisconsin: The Madison Concourse Hotel and Governor's Club (Madison Wisconsin Room), 1 West Dayton Street, Madison, Wisconsin 53703.

FRA Docket Clerk: Docket Clerk, Office of Chief Counsel, Mail Stop 10, FRA, 1120 Vermont Avenue, NW, Washington, DC 20590. E-mail address for the FRA Docket Clerk is renee.bridgers@fra.dot.gov.

FOR FURTHER INFORMATION CONTACT: Ron Ries, Office of Safety, FRA, 1120 Vermont Avenue, NW,Washington, DC 20590 (telephone: 202-493-6299); or Mark Tessler, Office of Chief Counsel, FRA, 1120 Vermont Avenue, NW, Washington, DC 20590 (telephone: 202-493-6038).

SUPPLEMENTARY INFORMATION: Any person wishing to provide testimony at one of the public hearings should notify FRA's Docket Clerk at the address above at least three working days prior to the date of the hearing. The notification should also provide either a telephone number or e-mail address at which the person may be contacted. If a participant will be representing an organization, please indicate the name of the organization.

FRA will attempt to accommodate all persons wishing to provide testimony, however depending on the number of people wishing to participate, FRA may find it necessary to limit the length of oral comments to accommodate as many people as possible. Participants may wish to submit a complete written statement for inclusion in the record, while orally summarizing the points made in that statement.

Issued in Washington, DC on April 18, 2000.
Michael T. Haley,
Deputy Chief Counsel, Federal Railroad Administration.

[FR Doc. 00-10155 Filed 4-21-00; 8:45 am]

BILLING CODE 4910-06-P